INTERNATIONAL TRADE COMMISSION

[Investigation No. 731-TA-989 (Final)]

Ball Bearings From China

AGENCY: United States International Trade Commission.

ACTION: Revised schedule for the subject investigation.

EFFECTIVE DATE: November 22, 2002.

FOR FURTHER INFORMATION CONTACT: Fred Ruggles (202-205-3187), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

SUPPLEMENTARY INFORMATION: On October 8, 2002, the Commission established a schedule for the conduct of the final phase of the subject investigation (67 FR 65142, October 23, 2002). The Commission hereby revises the date for its hearing in the investigation from March 4, 2003, to March 6, 2003.

The Commission's new schedule for the investigation is as follows: requests to appear at the hearing must be filed with the Secretary to the Commission not later than February 26, 2003; the prehearing conference will be held at the U.S. International Trade Commission Building at 9:30 a.m. on March 3; the prehearing staff report will be placed in the nonpublic record on February 21; the deadline for filing prehearing briefs is February 28; the hearing will be held at the U.S. International Trade Commission Building at 9:30 a.m. on March 6; the deadline for filing posthearing briefs is March 13; the Commission will make its final release of information on March 26; and final party comments are due on March 28. For further information concerning this investigation see the Commission's notice cited above and the Commission's rules of practice and procedure, part 201, subparts A through E (19 CFR part 201), and part 207, subparts A and C (19 CFR part 207).

Authority: This investigation is being conducted under authority of title VII of the Tariff Act of 1930; this notice is published pursuant to section 207.21 of the Commission's rules.

By order of the Commission.
Issued: November 25, 2002.
Marilyn R. Abbott,
Secretary to the Commission.

[FR Doc. 02-30371 Filed 11-29-02; 8:45 am]

BILLING CODE 7020-02-P